DEPARTMENT OF VETERANS AFFAIRS

[OMB Control No. 2900-0798]

Agency Information Collection Activity: Veteran/Beneficiary Claim for Reimbursement of Travel Expenses

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including a proposed reinstatement of a collection, and allow 60 days for public comment in response to the notice.

DATES: Written comments and recommendations on the proposed collection of information should be received on or before May 6, 2024.

ADDRESSES: Submit written comments on the collection of information through Federal Docket Management System (FDMS) at www.Regulations.gov or to Grant Bennett, Office of Regulations, Appeals, and Policy (10BRAP), Department of Veterans Affairs, 810 Vermont Avenue NW, Washington, DC 20420 or email to Grant.Bennett@va.gov. Please refer to “OMB Control No. 2900-0798” in any correspondence. During the comment period, comments may be viewed online through FDMS.

FOR FURTHER INFORMATION CONTACT: Maribel Aponte, Office of Enterprise and Integration, Data Governance and Analytics (008), 810 Vermont Avenue NW, Washington, DC 20420, (202) 266-4688 or email maribel.aponte@va.gov. Please refer to “OMB Control No. 2900-0798” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Veteran/Beneficiary Claim for Reimbursement of Travel Expenses (VA Form 10-3542 and BTSSS).

OMB Control Number: 2900-0798.

Type of Review: Reinstatement, with change, of a previously approved collection.

Abstract: Pursuant to 38 U.S.C. 111 and 38 CFR part 70, subpart A, the Veterans Health Administration (VHA) Beneficiary Travel (BT) Program, provides payments for authorized travel expenses to help Veterans and other beneficiaries obtain care or services from VHA. VHA requires certain information be gathered to determine whether BT eligibility and other criteria for approval have been met, and the amount of payment or reimbursement that is authorized. Claimants may include Veterans and other BT beneficiaries, and entities or individuals who provided or paid for travel. Claimants may apply for BT orally or in writing through VA Form 10-3542 or the Beneficiary Travel Self Service System (BTSSS). This standard collection of information is necessary to enable VHA to provide this benefit and appropriately ensure that funds are being paid to the correct claimant.

Total Annual Burden: 1,216,667 hours.

Total Annual Responses: 7,300,000.

Affected Public: Individuals or households.

Estimated Annual Burden: 1,216,667 hours.

Estimated Average Burden per Response: 10 minutes.

Frequency of Response: Average of 5 times per year.

Estimated Number of Respondents: 1,460,000.

By direction of the Secretary.
Maribel Aponte,
VA PRA Clearance Officer, Office of Enterprise and Integration/Data Governance and Analytics, Department of Veterans Affairs.

[FR Doc. 2024-04543 Filed 3-4-24; 8:45 am]

BILLING CODE 8320-01-P